NUCLEAR REGULATORY COMMISSION

[Docket Nos. 52-012-COL, ASLBP No. 09-885-08-COL-BD01 and 52-013-COL]

South Texas Project Nuclear Operating Company; Establishment of Atomic Safety and Licensing Board

Pursuant to delegation by the Commission dated December 29, 1972, published in the Federal Register, 37 FR 28710 (1972), and the Commission's regulations, see 10 CFR 2.104, 2.300, 2.303, 2.309, 2.311, 2.318, and 2.321, notice is hereby given that an Atomic Safety and Licensing Board (Board) is being established to preside over the following proceeding:

South Texas Project Nuclear Operating Company (South Texas Project Units 3 and 4)

This proceeding concerns a Petition for Intervention and Request for Hearing dated April 21, 2009 from the Sustainable Energy and Economic Development Coalition, et al., that was submitted in response to a February 20, 2009 Notice of Order, Hearing, and Opportunity to Petition for Leave to Intervene (74 FR 7934). Petitioners challenge the application filed by the South Texas Project Nuclear Operating Company pursuant to Subpart C of 10 CFR Part 52 for a combined license for the South Texas Project, Units 3 and 4, to be located in Matagorda County, Texas.

The Board is comprised of the following administrative judges:

Michael M. Gibson, Chair, Atomic Safety and Licensing Board Panel, U.S. Nuclear Regulatory Commission, Washington, DC 20555-0001;

Gary S. Arnold, Atomic Safety and Licensing Board Panel, U.S. Nuclear Regulatory Commission, Washington, DC 20555-0001;

Randall J. Charbeneau, Atomic Safety and Licensing Board Panel, U.S. Nuclear Regulatory Commission, Washington, DC 20555-0001.

All correspondence, documents, and other materials shall be filed in accordance with the NRC E-Filing rule, which the NRC promulgated in August 2007 (72 FR 49,139).

Issued at Rockville, Maryland, this 1st day of May 2009.
E. Roy Hawkens,
Chief Administrative Judge, Atomic Safety and Licensing Board Panel.

[FR Doc. E9-11038 Filed 5-11-09; 8:45 am]

BILLING CODE 7590-01-P